DEPARTMENT OF ENERGY

Federal Energy Regulatory Commission

[Docket No. RP96-312-138]

Tennessee Gas Pipeline Company; Notice of Negotiated Rates

May 19, 2004.

Take notice that on May 14, 2004, Tennessee Gas Pipeline Company, (Tennessee) tendered for filing certain exhibits to two amendments to two Gas Transportation Agreements, dated November 1, 2002, between Tennessee and Calpine Energy Services L.P. pursuant to Tennessee's Rate Schedule FT-A (Negotiated Rate Agreements). Tennessee states that its filing is made in compliance with the Commission's April 30, 2004, Letter Order in the referenced docket.

In accordance with the Letter Order, Tennessee requests the amendments to the Negotiated Rate Agreements to be effective on April 1, 2004.

Any person desiring to be heard or to protest said filing should file a motion to intervene or a protest with the Federal Energy Regulatory Commission, 888 First Street, NE., Washington, DC 20426, in accordance with § 385.214 or § 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1209 Filed 5-25-04; 8:45 am]

BILLING CODE 6717-01-P